DEPARTMENT OF TRANSPORTATION

Federal Transit Administration

Limitation on Claims Against Proposed Public Transportation Projects

AGENCY: Federal Transit Administration (FTA); U.S. Army Corps of Engineers (USACE), DOT.

ACTION: Notice of limitation on claims for judicial review of actions by the USACE.

SUMMARY: FTA is issuing this notice to announce action taken by the USACE that is final within the meaning of the United States Code. The action relates to the construction of a 16.2-mile light-rail transit (LRT) line, known as the Purple Line, from the Bethesda Metro Station in Montgomery County, Maryland, to the New Carrollton Station in Prince George's County, Maryland (the Project). The USACE granted a Department of the Army permit, pursuant to Section 404 of the Clean Water Act, as amended, authorizing the Maryland Transit Administration (MTA) to discharge dredged or fill material into Waters of the United States at specified locations related to the Project.

DATES: By this notice, FTA is advising the public of final agency actions subject to 23 U.S.C. 139(l). A claim seeking judicial review of the identified Federal agency action related to the Project will be barred unless the claim is filed on or before January 11, 2019. If the Federal law that authorizes judicial review of a claim provides a time period of less than 150 days for filing such claim, then that shorter time period still applies.

FOR FURTHER INFORMATION CONTACT: For FTA: Nancy-Ellen Zusman, Assistant Chief Counsel, Office of Chief Counsel, (312) 353-2577 or Alan Tabachnick, Environmental Protection Specialist, Office of Environmental Programs, (202) 366-8541. FTA is located at 1200 New Jersey Avenue SE, Washington, DC 20590. Office hours are from 9 a.m. to 5 p.m., Monday through Friday, except Federal holidays. For USACE: Department of the Army, Baltimore District, U.S. Army Corps of Engineers Regulatory Division, Attn: Maria Teresi, 2 Hopkins Plaza, Baltimore, Maryland 21201; telephone: (410) 962-4501.

SUPPLEMENTARY INFORMATION: Notice is hereby given that USACE has taken final agency action by issuing certain approval related to the Project. The actions on the project, as well as the laws under which such actions were taken, are described in the Department of the Army Permit and related documents in the USACE administrative record for the permit action. Interested parties may contact the USACE Baltimore District Regulatory Division Office for more information on the USACE's permit decision. Contact information for the appropriate USACE representative is above. Contact information for FTA's Regional Offices may be found at https://www.fta.dot.gov.

This notice applies to all USACE decisions on the listed project as of the issuance date of this notice and all laws under which such actions were taken, including, but not limited to, NEPA [42 U.S.C. 4321-4375], Section 106 of the National Historic Preservation Act [54 U.S.C. 306108], and the Clean Water Act [33 U.S.C. 1251-1387]. This notice does not, however, alter or extend the limitation period for challenges of project decisions subject to previous notices published in the Federal Register. The project and action that is the subject of this notice follow:

Project name and location: The Purple Line, Montgomery County to Prince George's County, Maryland. Project Sponsor: Maryland Transit Administration (MTA). Project description: The project involves the construction of a 16.2-mile light-rail (LRT) line from Bethesda Metro Station in Montgomery County, Maryland, to the New Carrollton Station in Prince George's County, Maryland. The project utilizes existing trails and roadways for the majority of its length. The transit way will be constructed largely at grade with one tunnel section at Plymouth Road, three sections elevated on structures, and several bridge structures. The project will service 5 major activity centers and 21 stations. Two storage and maintenance facilities will be constructed (Lyttonsville Yard and Glenridge Yard). Final agency action: Department of the Army permit issued pursuant to Section 404 Clean Water Act effective March 14, 2018. Supporting documentation: USACE Record of Decision issued March 14, 2018. The USACE decision and permit No. 2016-61278-M07 are available by contacting USACE at the address provided above.

This notice applies to all Federal agency decisions as of the issuance date of this notice and all laws under which the final action was taken.

Authority: 23 U.S.C. 139(l).

Elizabeth S. Riklin,
Deputy Associate Administrator Planning and Environment.

[FR Doc. 2018-17420 Filed 8-13-18; 8:45 am]

BILLING CODE 4910-57-P.